DEPARTMENT OF TRANSPORTATION

Federal Aviation Administration

14 CFR Part 39

[Docket No. FAA-2010-0121; Directorate Identifier 2010-CE-001-AD; Amendment 39-16207; AD 2010-04-14]

RIN 2120-AA64

Airworthiness Directives; Augustair, Inc. Models 2150, 2150A, and 2180 Airplanes

AGENCY: Federal Aviation Administration (FAA), DOT.

ACTION: Final rule; request for comments.

SUMMARY: We are adopting a new airworthiness directive (AD) for all Augustair, Inc. Models 2150, 2150A, and 2180 airplanes. This AD requires you to inspect the vertical stabilizer front spar for cracks and loose fasteners, repair any cracks and loose fasteners found, and reinforce the vertical stabilizer spar regardless if cracks are found. This AD results from six reports of airplanes with a cracked vertical stabilizer front spar. We are issuing this AD to detect and correct cracks in the vertical stabilizer front spar, which could result in separation of the vertical stabilizer from the airplane. This failure could lead to loss of control.

DATES: This AD becomes effective on March 24, 2010.

On March 24, 2010, the Director of the Federal Register approved the incorporation by reference of certain publications listed in this AD.

We must receive any comments on this AD by April 9, 2010.

ADDRESSES: Use one of the following addresses to comment on this AD.

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

To get the service information identified in this AD, contact Augustair, Inc., 1809 Hephzibah McBean Rd., Hephzibah, Georgia 30815; telephone: (706) 836-8610; fax: (706) 925-2847; Internet: http://VG21squadron.com; e-mail: lorenperry@aol.com.

To view the comments to this AD, go to http://www.regulations.gov. The docket number is FAA-2010-0121; Directorate Identifier 2010-CE-001-AD.

FOR FURTHER INFORMATION CONTACT: Hal Horsburgh, Aerospace Engineer, FAA, Atlanta Aircraft Certification Office (ACO), 1701 Columbia Avenue, College Park, Georgia 30337; telephone: (404) 474-5553; fax: (404) 474-5606; e-mail: hal.horsburgh@faa.gov.

SUPPLEMENTARY INFORMATION:

Discussion

We received a maintenance problem report on an Augustair, Inc. Model 2180 indicating the vertical stabilizer front spar was cracked completely across the Web. In addition, the fasteners attaching the splice plates spanning the spar flange cuts were loose. We have also received five additional reports of Augustair, Inc. Models 2150A and 2180 airplanes with cracks in the vertical stabilizer front spar.

This condition, if not corrected, could result in separation of the vertical stabilizer from the airplane. This failure could lead to loss of control.

Relevant Service Information

We reviewed Augustair Service Bulletin SB2009-1, Revision B, dated February 2, 2010. The service information describes procedures for doing a detailed inspection of the vertical stabilizer front spar for cracks or loose fasteners, repairing any damage found, and installing a doubler to the vertical stabilizer front spar.

FAA's Determination and Requirements of This AD

We are issuing this AD because we evaluated all the information and determined the unsafe condition described previously is likely to exist or develop on other products of the same type design. This AD requires you to inspect the vertical stabilizer front spar for cracks and loose fasteners, repair any cracks found, replace loose or damaged fasteners, and reinforce the vertical stabilizer spar regardless if cracks are found.

FAA's Determination of the Effective Date

An unsafe condition exists that requires the immediate adoption of this AD. The FAA has found that the risk to the flying public justifies waiving notice and comment prior to adoption of this rule because cracks in the vertical stabilizer front spar could lead to separation of the vertical stabilizer from the airplane and consequent loss of control. Therefore, we determined that notice and opportunity for public comment before issuing this AD are impracticable and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2010-0121; Directorate Identifier 2010-CE-001-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2010-04-14 Augustair, Inc.: Amendment 39-16207; Docket No. FAA-2010-0121; Directorate Identifier 2010-CE-001-AD.

Effective Date

(a) This AD becomes effective on March 24, 2010.

Affected ADs

(b) None.

Applicability

(c) This AD applies to the following airplane models and serial numbers that are certificated in any category:

Model | Serial Numbers | Note
2150 | FP-1 through FP-10 and MS-1-P | These aircraft were produced by Morrisey Aviation Inc.
2150A | SFP-11, SP12 through SP-33, and SP-35 through SP-45 | These aircraft were produced by Shinn Engineering Company, Santa Ana, California, under licensing agreement with Morrisey Aviation Inc.
2150A | VAC-50 through VAC-52, and VAC-54-76 through VAC-189-85 | These aircraft were produced by Varga Aircraft Corporation, Chandler, Arizona.
2180 | VAC-68-77 through VAC-191-82 | These aircraft were produced by Varga Aircraft Corporation, Chandler, Arizona.

Subject

(d) Air Transport Association of America (ATA) Code 55: Stabilizers.

Unsafe Condition

(e) This AD is the result of six reports of Augustair, Inc. Models 2150A and 2180 airplanes with a cracked vertical stabilizer front spar. We are issuing this AD to detect and correct cracks in the vertical stabilizer front spar, which could result in separation of the vertical stabilizer from the airplane. This failure could lead to loss of control.

Compliance

(f) To address this problem, you must do the following, unless already done:

(1) Before further flight after March 24, 2010 (the effective date of this AD), visually inspect the vertical stabilizer front spar for cracks and other damage (loose fasteners, corrosion, scratches) following section 2, paragraph A, of Augustair Service Bulletin SB2009-1, Revision B, dated February 2, 2010.

(2) At the applicable compliance time specified in paragraph (f)(2)(i) and (f)(2)(ii) of this AD, do a detailed inspection of the vertical stabilizer front spar for cracks and other damage, repair any damage found, and install a doubler to the vertical stabilizer front spar following section 2, paragraph B, of Augustair Service Bulletin SB2009-1, Revision B, dated February 2, 2010.

(i) Before further flight after the inspection required in paragraph (f)(1) of this AD where cracks or other damage is found; or

(ii) Within 10 hours time-in-service (TIS) after the inspection required in paragraph (f)(1) of this AD where no cracks or other damage was found.

(3) Report the inspection results from paragraph (f)(2) of this AD within 30 days after the inspection or within 30 days after March 24, 2010 (the effective date of this AD), whichever occurs later. Send your report to ATTN: Hal Horsburgh, Aerospace Engineer, FAA, Atlanta Aircraft Certification Office (ACO), 1701 Columbia Avenue, College Park, Georgia 30337; fax: (404) 474-5606; e-mail: hal.horsburgh@faa.gov. The Office of Management and Budget (OMB) approved the information collection requirements contained in this regulation under the provisions of the Paperwork Reduction Act and assigned OMB Control Number 2120-0056. Include in your report the following information:

(1) Aircraft model and serial number;

(2) Aircraft hours TIS;

(3) Answer whether any crack was found and, if so, the crack location and size;

(4) Description of any previous modifications or repairs in the vertical stabilizer spar attachment area or if the airplane was modified with a different engine model or propeller model than originally installed on the airplane and hours TIS when the modification was done;

(5) Corrective action taken;

(6) Answer yes or no whether other damage was found; and if so, describe it;

(7) Point of contact name and phone number; and

(8) Clearly identify the AD No., Docket No., and Directorate Identifier of the AD action requiring the report.

Alternative Methods of Compliance (AMOCs)

(g) The Manager, Atlanta Aircraft Certification Office (ACO), FAA, has the authority to approve AMOCs for this AD, if requested using the procedures found in 14 CFR 39.19. Send information to ATTN: Hal Horsburgh, Aerospace Engineer, FAA, Atlanta Aircraft Certification Office (ACO), 1701 Columbia Avenue, College Park, Georgia 30337; telephone: (404) 474-5553; fax: (404) 474-5606; e-mail: hal.horsburgh@faa.gov. Before using any approved AMOC on any airplane to which the AMOC applies, notify your appropriate principal inspector (PI) in the FAA Flight Standards District Office (FSDO), or lacking a PI, your local FSDO.

Material Incorporated by Reference

(h) You must use Augustair Service Bulletin SB2009-1, Revision B, dated February 2, 2010, to do the actions required by this AD, unless the AD specifies otherwise.

(1) The Director of the Federal Register approved the incorporation by reference of this service information under 5 U.S.C. 552(a) and 1 CFR part 51.

(2) For service information identified in this AD, contact Augustair, Inc., 1809 Hephzibah McBean Rd., Hephzibah, Georgia 30815; telephone: (706) 836-8610; fax: (706) 925-2847; Internet: http://VG21squadron.com; e-mail: lorenperry@aol.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on February 11, 2010.
Steven W. Thompson,
Acting Manager, Small Airplane Directorate, Aircraft Certification Service.

[FR Doc. 2010-3185 Filed 2-22-10; 8:45 am]

BILLING CODE 4910-13-P